DEPARTMENT OF HEALTH AND HUMAN SERVICES

Findings of Research Misconduct

AGENCY: Office of the Secretary, HHS.

ACTION: Notice.

SUMMARY: Notice is hereby given that the Office of Research Integrity (ORI) has taken final action in the following case:

Venkata J. Reddy, University of Minnesota: Based upon the evidence and findings of an investigation report by the University of Minnesota (UMN), an investigation conducted by another Federal agency, and additional information obtained by the Office of Research Integrity (ORI) during its oversight review of the UMN investigation, ORI found that Mr. Venkata J. Reddy, former Graduate Student, Department of Chemistry, UMN, engaged in research misconduct in research that was included in grant application R01 GM095559-01A1, submitted to the National Institute of General Medical Sciences (NIGMS), National Institutes of Health (NIH).

ORI found by a preponderance of the evidence that the Respondent intentionally and knowingly engaged in research misconduct by falsifying and/or fabricating data that was provided to his mentor to include in grant application R01 GM095559-01A1 submitted to NIGMS, NIH, to obtain U.S. Public Health Service (PHS) funds. Specifically, ORI found that the Respondent falsified data included in Figures 4, 9, 11, 15, and 25 in R01 GM095559-01A1 for enantiomeric excess (“ee”) to falsely show a high degree of selectivity for one enantiomer over another by a cut-and-paste method and manipulation of the instrument to give the desired result. Respondent also falsified the underlying nuclear magnetic resonance spectroscopy (NMR) data for Compound 22 reported in Figure 15 in R01 GM095559-01A1 by a cut-and-paste method to manipulate the NMR spectra and give the desired result.

Dr. Reddy has been debarred by the Federal agency with joint jurisdiction for a period of five (5) years, ending on August 26, 2018. ORI has implemented the following administrative action to coincide with the government-wide debarment:

(1) Respondent is prohibited from serving in any advisory capacity to PHS including, but not limited to, service on any PHS advisory committee, board, and/or peer review committee, or as a consultant.

FOR FURTHER INFORMATION CONTACT: Acting Director, Office of Research Integrity, 1101 Wootton Parkway, Suite 750, Rockville, MD 20852, (240) 453-8800.

Donald Wright,
Acting Director, Office of Research Integrity.

[FR Doc. 2015-10203 Filed 4-30-15; 8:45 am]

BILLING CODE 4150-31-P